DEPARTMENT OF STATE

[Public Notice 5401]

30-Day Notice of Proposed Information Collection: Notice of Termination of Diplomatic, Consular, or Foreign Government Employment, OMB No. 1405-0061, Form DS-2008 and DS-2008E; Notification of Appointment of Foreign Diplomatic Officer, Career Consular Officer, and Foreign Government Employee, OMB No. 1405-0062, Form DS-2003, DS-2004, and DS-2003E; Notification of Appointment of Honorary Consular Officer, OMB No. 1405-0064, Form DS-2005; Notification of Change—Identification Card Request, OMB No. 1405-0089, DS-2006; Notification of Dependents of Diplomatic, Consular and Foreign Government Employees (Continuation Sheet), OMB No. 1405-0090, Form DS-2007

ACTION: Notice of request for public comment and submission to OMB of proposed collection of information.

SUMMARY: The Department of State has submitted the following information collection request to the Office of Management and Budget (OMB) for approval in accordance with the Paperwork Reduction Act of 1995.

Title of Information Collection: Notice of Termination of Diplomatic, Consular, or Foreign Government Employment.

OMB Control Number: 1405-0061.

Type of Request: Extension of Currently Approved Collection.

Originating Office: Diplomatic Security/Office of Foreign Missions (DS/OFM/VTC/V).

Form Numbers: DS-2008 & DS-2008E.

Respondents: Foreign government representatives.

Estimated Number of Respondents: 350 missions.

Estimated Number of Responses: 7,200 forms per year.

Average Hours Per Response: 10 minutes.

Total Estimated Burden: 1,200 hours divided among the missions.

Frequency: On occasion.

Obligation to Respond: Mandatory.

Title of Information Collection: Notification of Appointment of Foreign Diplomatic Officer, Career Consular Officer, and Foreign Government Employee.

OMB Control Number: 1405-0062.

Type of Request: Revision of Currently Approved Collection.

Originating Office: Diplomatic Security/Office of Foreign Missions (DS/OFM/VTC/V).

Form Numbers: DS-2003, DS-2004, & DS-2003E.

Respondents: Foreign government representatives.

Estimated Number of Respondents: 350 missions.

Estimated Number of Responses: 7,000 forms per year.

Average Hours Per Response: 25 minutes.

Total Estimated Burden: 2,917 hours divided among the missions.

Frequency: On occasion.

Obligation to Respond: Mandatory.

Title of Information Collection: Notification of Appointment of Honorary Consular Officer.

OMB Control Number: 1405-0064.

Type of Request: Extension of Currently Approved Collection.

Originating Office: Diplomatic Security/Office of Foreign Missions (DS/OFM/VTC/V).

Form Numbers: DS-2005 & DS-2005E.

Respondents: Foreign government representatives.

Estimated Number of Respondents: 155 missions.

Estimated Number of Responses: 200 forms per year.

Average Hours Per Response: 20 minutes.

Total Estimated Burden: 67 hours divided among the missions.

Frequency: On occasion.

Obligation to Respond: Mandatory.

Title of Information Collection: Notification of Change—Identification Card Request.

OMB Control Number: 1405-0089.

Type of Request: Extension of Currently Approved Collection.

Originating Office: Diplomatic Security/Office of Foreign Missions (DS/OFM/VTC/V).

Form Numbers: DS-2006.

Respondents: Foreign government representatives.

Estimated Number of Respondents: 350 missions.

Estimated Number of Responses: 5,000 forms per year.

Average Hours Per Response: 9 minutes.

Total Estimated Burden: 750 hours divided among the missions.

Frequency: On occasion.

Obligation to Respond: Mandatory.

Title of Information Collection: Notification of Dependents of Diplomatic, Consular, and Foreign Government Employees (Continuation Sheet).

OMB Control Number: 1405-0090.

Type of Request: Extension of Currently Approved Collection.

Originating Office: Diplomatic Security/Office of Foreign Missions (DS/OFM/VTC/V).

Form Numbers: DS-2007.

Respondents: Foreign government representatives.

Estimated Number of Respondents: 350 missions.

Estimated Number of Responses: 7,000 forms per year.

Average Hours Per Response: 10 minutes.

Total Estimated Burden: 1,167 hours divided among the missions.

Frequency: On occasion.

Obligation to Respond: Mandatory.

DATES: Submit comments to the Office of Management and Budget (OMB) for up to 30 days from May 10, 2006.

ADDRESSES: Direct comments and questions to Alexander Hunt, the Department of State Desk Officer in the Office of Information and Regulatory Affairs at the Office of Management and Budget (OMB), who may be reached at 202-395-7860. You may submit comments by any of the following methods:

• E-mail: ahunt@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: You may obtain copies of the proposed information collection and supporting documents from Jacqueline Robinson, Diplomatic Motor Vehicle Director, Office of Foreign Missions, 3507 International Place, NW., State Annex 33, Washington, DC 20522-3302, who may be reached at 571-345-2751 or RobinsonJD@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collections: The forms associated with OMB numbers 1405-0061, 1405-0062, and 1405-0064 are the means by which the Department of State obtains information concerning the appointment and termination of foreign government employees and diplomatic, career and honorary consular officers serving in the United States. The DS-2007 (OMB number 1405-0090) is the means by which the Department of State obtains information to determine the acceptability of dependents and personal servants accompanying foreign government employees and diplomatic, career and honorary consular officers on tours in the United States. The DS-2006 (OMB number 1405-0089) is used to issue or make changes to identification cards and/or to update information previously submitted. These information collections instruments are used to extend or terminate privileges and immunities as is accorded under the Vienna Convention on Diplomatic Relations, 1961 and the Vienna Convention on Consular Relations, 1963, and to issue official identification cards and letters. The primary respondents are foreign government representatives.

Methodology: These forms/information collections are submitted by all foreign missions to the Office of Foreign Missions via the following methods: mail, personal delivery, and/or electronically.

Dated: April 12, 2006.
John P. Gaddis,
Deputy Assistant Secretary, Bureau of Diplomatic Security, Office of Foreign Missions, U.S. Department of State.

[FR Doc. E6-7130 Filed 5-9-06; 8:45 am]

BILLING CODE 4710-43-P